NUCLEAR REGULATORY COMMISSION

[Docket Nos. 52-012 and 52-013; NRC-2010-0126]

STP Nuclear Operating Company; Notice of Availability of the Draft Environmental Impact Statement for Combined Licenses for Units 3 And 4 at the South Texas Project Site

Notice is hereby given that the U.S. Nuclear Regulatory Commission (NRC) and the U.S. Army Corps of Engineers (Corps), Galveston District, have published “NUREG-1937, Draft Environmental Impact Statement for Combined Licenses (COLs) at the South Texas Project Electric Generating Station Units 3 and 4” (DEIS). The site for the proposed South Texas Project Units 3 and 4 is located in Matagorda County, Texas, along the west bank of the Colorado River. The application for the COLs was submitted by letter dated October 1, 2007, pursuant to 10 CFR Part 52. A notice of receipt and availability of the application, which included the environmental report (ER), was published in the Federal Register on October 24, 2007 (72 FR 60394). A notice of acceptance for docketing of the COL application was published in the Federal Register on December 5, 2007 (72 FR 68597). A notice of intent to prepare an environmental impact statement (EIS) and to conduct the scoping process was published in the Federal Register on December 21, 2007 (72 FR 72774).

The purpose of this notice is to inform the public that NUREG-1937 is available for public inspection. The DEIS can be accessed (1) in the U.S. Nuclear Regulatory Commission's (NRC's) Public Document Room (PDR) located at One White Flint North, 11555 Rockville Pike (first floor), Rockville, Maryland 20852, or (2) from NRC's Agencywide Documents Access and Management System (ADAMS). ADAMS is accessible from the NRC Web site at http://www.nrc.gov/reading-rm/adams.html. The accession number for the DEIS is ML100700576. Persons who do not have access to ADAMS, or who encounter problems in accessing the documents located in ADAMS, should contact the PDR reference staff at 1-800-397-4209 or 301-415-4737, or by e-mail to pdr.resource@nrc.gov. In addition, the Bay City Public Library, located at 1100 7th Street, Bay City, Texas, has agreed to make the DEIS available to the public.

The NRC and Corps staff will hold two public meetings to present an overview of the DEIS and to accept public comments on the document on Thursday, May 6, 2010, at the Bay City Civic Center, 201 7th Street, Bay City, Texas. The first meeting will convene at 1:30 p.m. and will continue until 4:30 p.m., as necessary. The second meeting will convene at 7 p.m., with a repeat of the overview portions of the first meeting, and will continue until 10 p.m., as necessary. The meetings will be transcribed and will include: (1) A presentation of the contents of the DEIS; and (2) the opportunity for interested government agencies, organizations, and individuals to provide comments on the draft report. Additionally, the NRC and Corps staff will host informal discussions one hour before the start of each meeting during which members of the public may meet and talk with NRC and Corps staff members. To be considered, comments must be provided during the transcribed public meeting either orally or in writing. No formal comments on the DEIS will be accepted during the informal discussions.

Persons may pre-register to attend or present oral comments at the meeting by contacting Ms. Jessie Muir by telephone at 1-800-368-5642, extension 0491, or by e-mail at STP.COLAEIS@nrc.gov no later than April 21, 2010. Members of the public may also register to speak at the meeting within 15 minutes of the start of the meeting. Individual oral comments may be limited by the time available, depending on the number of persons who register. Members of the public who have not registered may also have an opportunity to speak, if time permits. If special equipment or accommodations are needed to attend or present information at the public meeting, Ms. Jessie Muir should to be contacted no later than April 21, 2010, so that the NRC staff can determine whether the request can be accommodated.

Members of the public may also submit comments on the DEIS by (1) e-mail, (2) mail, or (3) delivery to the NRC. Comments may also be submitted via email at STP.COLAEIS@nrc.gov. Electronic submissions should be sent no later than June 9, 2010. Written comments on the DEIS can be mailed to the Chief, Rulemaking, Directives, and Editing Branch, Division of Administrative Services, Office of Administration, Mailstop T-6D59, U.S. Nuclear Regulatory Commission, Washington, DC 20555-0001, and should cite the publication date and page number of this Federal Register Notice. To be considered, written comments should be postmarked by June 9, 2010. Comments may also be delivered to Room T-6D59, Two White Flint North, 11545 Rockville Pike, Rockville, Maryland, from 7:30 a.m. to 4:15 p.m. during Federal workdays.

FOR FURTHER INFORMATION CONTACT: Ms. Jessie Muir, Environmental Projects Branch 2, Division of Site and Environmental Reviews, Office of New Reactors, U.S. Nuclear Regulatory Commission, Mail Stop T7-E30, Washington, DC 20555-0001. Ms. Muir may also be contacted at the aforementioned telephone number or e-mail address.

Dated at Rockville, Maryland, this 19th day of March 2010.
For the Nuclear Regulatory Commission.
Scott Flanders,
Director, Division of Site and Environmental Reviews, Office of New Reactors.

[FR Doc. 2010-6642 Filed 3-24-10; 8:45 am]

BILLING CODE 7590-01-P